DEPARTMENT OF TRANSPORTATION

Federal Transit Administration

Fiscal Year 2012 Public Transportation on Indian Reservations Program Project Selections

AGENCY: Federal Transit Administration (FTA), DOT.

ACTION: Tribal transit program announcement of project selections.

SUMMARY: The US. Department of Transportation's (DOT) Federal Transit Administration (FTA) announces the selection of projects with Fiscal Year (FY) 2012 appropriations for the Tribal Transit Program. A March 9, 2012 Federal Register Notice (77 FR 14465) announced the availability of the funding for the program. The Surface and Air Transportation Programs Extension Act of 2011 authorizes approximately $15 million for federally recognized Indian Tribes or Alaska Native villages, groups, or communities as identified by the Bureau of Indian Affairs (BIA) in the U.S. Department of the Interior for public transportation. An additional $500,000 is available from prior years, bringing the total available to just over $15.5 million. The Tribal Transit Program supports capital projects, operating costs and planning activities that are eligible under the Formula Grants for Rural Areas Program (Section 5311).

This is the final discretionary allocation for the Tribal Transit Program, which was first authorized under the Safe, Accountable, Flexible, Efficient Transportation Equity Act: A Legacy for Users (SAFETEA-LU). The new authorizing legislation, Moving Ahead for Progress in the 21st Century Act (MAP-21), was signed into law by President Obama on July 6, 2012, and became effective on October 1, 2012. MAP-21 continues the Tribal Transit Program and authorizes $25 million for a formula allocation and $5 million for a discretionary allocation in each of fiscal years 2013 and 2014. On November 9, 2012, FTA published a Federal Register Notice (77FR 67439) regarding the Fiscal Year 2013 Public Transportation on Indian Reservations Program, which: (1) Introduces FTA's consultation process and schedule for implementing changes due to MAP-21; (2) describes and seeks comment on the methodology for the formula allocation and the assumptions made to determine who is eligible for the formula program; (3) seeks comment on the terms and conditions for the formula and discretionary components of the program; (4) seeks comment on how the discretionary program should be allocated; and (5) announces two public meetings sponsored by FTA to consult with tribal governments regarding the Tribal Transit Program.

FOR FURTHER INFORMATION CONTACT: Successful applicants should contact the appropriate FTA Regional office (Appendix) for information regarding applying for the funds or program-specific information. A list of Regional offices can be found at www.fta.dot.gov. Unsuccessful applicants may contact Lorna Wilson, Office of Program Management at (202) 366-0893, email: Lorna.Wilson@dot.gov, to arrange a proposal debriefing within 30 days of this announcement. In the event the contact information provided by your tribe in the application has changed, please contact your regional tribal liaison with the current information in order to expedite the grant award process. For general Tribal Transit Discretionary Program information, contact Elan Flippin, Office of Transit Programs, at (202) 366-3800, email: Elan.Flippin@dot.gov. A TDD is available at 1-800-877-8339 (TDD/FIRS).

SUPPLEMENTARY INFORMATION: A total of $15,514,495 million is available for the FY 2012 Tribal Transit program. A total of 107 applicants requested $53 million, indicating significant demand for funds for new transit services, enhancement or expansion of existing transit services, and planning studies including operational planning. Project proposals were evaluated based on each applicant's responsiveness to the program evaluation criteria outlined in FTA's March 9, 2012 Notice of Funding Availability. FTA also took into consideration the current status of previously funded applicants. A total of 72 applications have been selected for funding. The projects selected as shown in Table 1 will provide funding for transit planning studies/and or operational planning, start-up projects for new transit service, and for the operational expenses of existing transit services. Grantees selected for competitive discretionary funding should work with their FTA regional office to finalize the grant application in FTA's Transportation Electronic Awards Management System (TEAM) for the projects identified in the attached table and so that funds can be obligated expeditiously. FTA funds may only be used for eligible purposes defined under 49 U.S.C 5311 and described in FTA Circular 9040.1F. In cases where the allocation amount is less than the proposer's requested amount, grantees should work with the regional office to reduce scope or scale the project such that a completed phase or project is accomplished. A discretionary project identification number has been assigned to each project for tracking purposes and must be used in the TEAM application. The post award reporting requirements include submission of the Federal Financial Report (FFR), Milestone Report in TEAM, and National Transit Database reporting as appropriate (see FTA Circular 9040.1F).

The grantee must comply with all applicable Federal statutes, regulations, executive orders, FTA circulars, and other Federal requirements in carrying out the project supported by the FTA grant. Funds allocated in this announcement must be obligated in a grant by September 30, 2015.

Issued in Washington, DC, this 28th day of December, 2012.
Peter M. Rogoff,
Administrator.

BILLING CODE P

[FR Doc. 2013-00167 Filed 1-7-13; 8:45 am]

BILLING CODE C